CONSUMER PRODUCT SAFETY COMMISSION

[Docket No. CPSC-2009-0088]

Proposed Extension of Approval of Information Collection; Comment Request: Third Party Conformity Assessment Body Registration Form

AGENCY: Consumer Product Safety Commission.

ACTION: Notice.

SUMMARY: As required by the Paperwork Reduction Act of 1995 (44 U.S.C. chapter 35), the Consumer Product Safety Commission (CPSC or Commission) requests comments on a proposed 3-year extension of approval of information collection regarding a form used to evaluate whether third party conformity assessment bodies meet the requirements to test for compliance to specified children's product safety rules. Third party conformity assessment bodies found to meet the requirements are listed on the CPSC Web site. The Office of Management and Budget (OMB) previously approved the collection of information under control number 3041-0143. OMB's most recent extension of approval will expire on July 31, 2013. The Commission will consider all comments received in response to this notice before requesting an extension of approval of this collection of information from OMB.

DATES: The Office of the Secretary must receive comments not later than June 18, 2013.

ADDRESSES: You may submit comments, identified by Docket No. CPSC-2009-0088, by any of the following methods:

Electronic Submissions

Submit electronic comments in the following way:

Federal eRulemaking Portal: http://www.regulations.gov. Follow the instructions for submitting comments.

To ensure timely processing of comments, the Commission is no longer accepting comments submitted by electronic mail (email), except through www.regulations.gov.

Written Submissions

Submit written submissions in the following way:

Mail/Hand delivery/Courier (for paper, disk, or CD-ROM submissions), preferably in five copies, to: Office of the Secretary, Consumer Product Safety Commission, Room 820, 4330 East West Highway, Bethesda, MD 20814; telephone (301) 504-7923.

Instructions: All submissions received must include the agency name and docket number for this notice. All comments received may be posted without change, including any personal identifiers, contact information, or other personal information provided, to http://www.regulations.gov. Do not submit confidential business information, trade secret information, or other sensitive or protected information electronically. Such information should be submitted in writing.

Docket: For access to the docket to read background documents or comments received, go to http://www.regulations.gov.

FOR FURTHER INFORMATION CONTACT: For further information contact: Robert H. Squibb, Consumer Product Safety Commission, 4330 East West Highway, Bethesda, MD 20814; (301) 504-7815, or by email to: rsquibb@cpsc.gov.

SUPPLEMENTARY INFORMATION:

A. Background

The Consumer Product Safety Improvement Act of 2008 (CPSIA) requires third party testing be conducted by a third party conformity assessment body for any children's product, that is subject to a children's product safety rule, before importing for consumption or warehousing or distributing in commerce. The CPSIA allows accreditation of third party conformity assessment bodies to be conducted either by the Commission or by an independent accreditation organization designated by the Commission, and requires that the Commission maintain on its Web site an up-to-date list of entities that have been accredited to assess conformity with children's product safety rules. With the exception of firewalled third party conformity assessment bodies, the Commission has chosen to accept the accreditation of third party conformity assessment bodies that meet accreditation requirements of an independent accreditation organization.

In order to assess a third party conformity assessment body's qualifications for acceptance by CPSC, information related to location, accreditation, and ownership must be collected from third party conformity assessment bodies. The CPSC uses an online collection form, CPSC Form 223, to gather information from third party conformity assessment bodies voluntarily seeking acceptance by CPSC. The information collected relates to location, accreditation, and ownership. The Commission staff uses this information to assess:

• A third party conformity assessment body's status as either an independent third party conformity assessment body, a government-owned or government-controlled conformity assessment body, or a firewalled conformity assessment body;

• Qualifications for acceptance by CPSC to test for compliance to specified children's product safety rules; and

• Eligibility for acceptance on the CPSC Web site.

The Commission recently published a final rule (16 CFR part 1112) regarding the requirements for third party conformity assessment bodies in the Federal Register on March 12, 2013, which will become effective on June 10, 2013. Once 16 CFR part 1112 is in effect it will require the collection of information in CPSC Form 223:

• Upon initial application by the third party conformity assessment body for acceptance by CPSC;

• Whenever there is a change to accreditation or ownership information; and

• At least every 2 years as part of a regular audit process.

B. Estimated Burden

The CPSC estimates the burden of the collection of information in CPSC Form 223 is as follows:

Estimated Annual Reporting Burden
Activity | Number of respondents | Frequency of responses | Total annual responses | Hours per response | Total hours
Initial Registration | 55 | 1 | 55 | 1 | 55
Re-Registration | 204 | 1 | 204 | 1 | 204
Changes in Information | 3 | 1 | 3 | 0.25 | 0.75
Total |  |  |  |  | 259.75

These estimates are based on the following information:

• From March 19, 2012 to March 19, 2013, 56 new third party conformity assessment bodies have registered with the CPSC. Since 2011, the number of third party conformity assessment bodies (53) has remained stable. Therefore, the estimated number of third party conformity assessment bodies who would register initially would be 55.

• Under the final rule 16 CFR part 1112, third party conformity assessment bodies are required to resubmit CPSC Form 223 every two years. As all third party conformity assessment bodies have not submitted their first CPSC Form 223s at the same time, only some would be expected to resubmit a CPSC Form 223 in any one year. As of March 2013, 409 third party conformity assessment bodies have registered with CPSC. Approximately half (204) of these firms would be required to re-register with CPSC.

• Under the final rule 16 CFR part 1112, third party conformity assessment bodies are required to keep the information submitted on CPSC Form 223 up to date and to submit a new CPSC Form 223 whenever the information changes. Based on current experience with third party conformity assessment bodies, CPSC staff estimates that third party conformity assessment bodies will make no more than 3 revisions per year to update their information. A change in information is a change which does not require review of laboratory accreditation documents, such as scope or test methods. Examples of revised information include changes in the Web site URL, name of the laboratory, and name of point of contact.

The total burden, therefore, is 259.75 hours, which is rounded up to 260 hours. CPSC staff estimates that hourly compensation for the time required for recordkeeping is $27.12 per hour (U.S. Bureau of Labor Statistics, “Employer Costs for Employee Compensation,” Table 9, total compensation for sales, office, and related workers in goods-producing industries: http:www.bls.gov/ncs). The total cost burden to the respondents is approximately $7,052 ($27.12 × 260 hours = $7,051.20).

C. Request for Comments

The Commission solicits written comments from all interested persons about the proposed collection of information. The Commission specifically solicits information relevant to the following topics:

• Whether the collection of information described above is necessary for the proper performance of the Commission's functions, including whether the information would have practical utility;

• Whether the estimated burden of the proposed collection of information is accurate;

• Whether the quality, utility, and clarity of the information to be collected could be enhanced; and

• Whether the burden imposed by the collection of information could be minimized by use of automated, electronic or other technological collection techniques, or other forms of information technology.

Dated: April 16, 2013.
Todd A. Stevenson,
Secretary, Consumer Product Safety Commission.

[FR Doc. 2013-09225 Filed 4-18-13; 8:45 am]

BILLING CODE 6355-01-P